ENVIRONMENTAL PROTECTION AGENCY

40 CFR Part 52

[EPA-R04-OAR-2015-0209; FRL-9926-46-Region 4]

Approval and Promulgation of Implementation Plans; North Carolina; Charlotte; Base Year Emissions Inventory and Emissions Statement Requirements for the 2008 8-Hour Ozone Standard

AGENCY: Environmental Protection Agency.

ACTION: Proposed rule.

SUMMARY: The Environmental Protection Agency (EPA) is proposing to approve a state implementation plan revision submitted by the State of North Carolina, through North Carolina Department of Environment and Natural Resources, on July 7, 2014, to address the base year emissions inventory and emissions statement requirements for the 2008 8-hour ozone national ambient air quality standards (NAAQS) for the State's portion of the Charlotte Gastonia-Rock Hill, North Carolina-South Carolina Area. Annual emissions reporting (i.e., emission statement) and a base year emissions inventory are required for all ozone nonattainment areas. The Area is comprised of the entire county of Mecklenburg and portions of Cabarrus, Gaston, Iredell, Lincoln, Rowan and Union Counties in North Carolina; and a portion of York County in South Carolina. EPA will consider and take action on the South Carolina submission for the emissions inventory and emissions statement for its portion of this Area in a separate action.

DATES: Written comments must be received on or before May 21, 2015.

ADDRESSES: Submit your comments, identified by Docket ID No. EPA-R04-OAR-2015-0209 by one of the following methods:

1. www.regulations.gov: Follow the on-line instructions for submitting comments.

2. Email: R4-ARMS@epa.gov.

3. Fax: (404) 562-9019.

4. Mail: “EPA-R04-OAR-2015-0209,” Air Regulatory Management Section (formerly the Regulatory Development Section), Air Planning and Implementation Branch (formerly the Air Planning Branch), Air, Pesticides and Toxics Management Division, U.S. Environmental Protection Agency, Region 4, 61 Forsyth Street SW., Atlanta, Georgia 30303-8960.

5. Hand Delivery or Courier: Lynorae Benjamin, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Jane Spann, Regulatory Development Section, Air Planning Branch, Air, Pesticides and Toxics Management Division, U.S. Environmental Protection Agency, Region 4, 61 Forsyth Street SW., Atlanta, Georgia 30303-8960. The telephone number is (404) 562-9029. Ms. Spann can be reached via electronic mail at spann.jane@epa.gov.

SUPPLEMENTARY INFORMATION: For additional information see the direct final rule which is published in the Rules Section of this Federal Register. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

Dated: April 9, 2015.
Heather McTeer Toney,
Regional Administrator, Region 4.

[FR Doc. 2015-09049 Filed 4-20-15; 8:45 am]

BILLING CODE 6560-50-P